EXPORT-IMPORT BANK

[Public Notice: 2024-3031]

Agency Information Collection Activities: Submission to the Office of Management and Budget for Review and Approval; Comment Request; EIB 92-34, Application for Short-Term Letter of Credit Export Credit Insurance Policy

AGENCY: Export-Import Bank of the United States.

ACTION: Notice of information collection; request for comment.

SUMMARY: The Export-Import Bank of the United States (EXIM), pursuant to the Export-Import Bank Act of 1945, as amended, facilitates the finance of the export of U.S. goods and services. As part of its continuing effort to reduce paperwork and respondent burden, EXIM invites the general public and other Federal agencies to comment on the proposed information collection, as required by the paperwork Reduction Act of 1995.

DATES: Comments must be received on or before October 27, 2025 to be assured of consideration.

ADDRESSES: Comments may be submitted electronically on WWW.REGULATIONS.GOV (EIB 92-29), or by mail to Office of Information and Regulatory Affairs, 725 17th Street NW, Washington, DC 20038, Attn: OMB 3048-0009.

FOR FURTHER INFORMATION CONTACT: To request additional information please contact Alyson Young, Alyson.young@exim.gov, 202-565-3657.

SUPPLEMENTARY INFORMATION: The “Report of Premiums Payable for Exporters Only” form will be used by exporters to report and pay premiums on insured shipments to various foreign buyers. The Application for Short Term Letter of Credit Export Credit Insurance Policy is used to determine the eligibility of the applicant and the transaction for EXIM assistance under its insurance program. EXIM customers are able to submit this form on paper or electronically.

Title and Form Number: EIB 92-34 Application for Short-Term Letter of Credit Export Credit Insurance Policy.

OMB Number: 3048-0009.

Type of Review: Regular.

Need and Use: This form is used by a financial institution (or broker acting on its behalf) to obtain approval for coverage of a short-term letter of credit. The information allows the EXIM staff to make a determination of the eligibility of the applicant and transaction for EXIM assistance under its programs.

The application tool can be reviewed at: https://img.exim.gov/s3fs-public/pub/pending/EIB92-34_Short_Term_Bank_Letter_of_Credit_Application_2025_PENDING.pdf.

Affected Public: This form affects entities involved in the export of U.S. goods and services.

Annual Number of Respondents: 11.

Estimated Time per Respondent: 0.5 hrs.

Annual Burden Hours: 5.5.

Frequency of Reporting of Use: On occasion.

Dated: September 24, 2025.
Andrew Smith,
Records officer.

[FR Doc. 2025-18740 Filed 9-25-25; 8:45 am]

BILLING CODE 6690-01-P